DEPARTMENT OF HEALTH AND HUMAN SERVICES

National Institutes of Health

National Institute of Arthritis and Musculoskeletal and Skin Diseases; Amended Notice of Meeting

Notice is hereby given of a change in the meeting of the National Institute of Arthritis and Musculoskeletal and Skin Diseases Special Emphasis Panel, October 23, 2013, 4:30 p.m. to October 23, 2013, 5:30 p.m., National Institutes of Health, One Democracy Plaza, 6701 Democracy Boulevard, Bethesda, MD, 20892 which was published in the Federal Register on September 30, 2013, 78 FR 59945.

This teleconference, originally scheduled for October 23, 2013, will be held on December 18, 2013, from 11 a.m. to 12 p.m. The meeting is closed to the public.

Dated: November 6, 2013.
Carolyn Baum,
Program Analyst, Office of Federal Advisory Committee Policy.

[FR Doc. 2013-30199 Filed 12-16-13; 4:15 pm]

BILLING CODE 4140-01-P